DEPARTMENT OF EDUCATION

[Docket No.: ED-2023-SCC-0139]

Agency Information Collection Activities; Submission to the Office of Management and Budget for Review and Approval; Comment Request; Teacher Education Assistance for College and Higher Education Grant Eligibility Regulations

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before October 30, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Education Assistance for College and Higher Education Grant Eligibility Regulations.

OMB Control Number: 1845-0084.

Type of Review: An extension without change of a currently approved ICR.

Respondents/Affected Public: Private Sector; Individuals and Households; State, Local, and Tribal Governments. Total Estimated Number of Annual Responses: 233,844.

Total Estimated Number of Annual Burden Hours: 37,175.

Abstract: The College Cost Reduction and Access Act (the CCRAA), Public Law 110-84, established the Teacher Education Assistance for College and Higher Education (TEACH) Grant Program under Part A of the Higher Education Act of 1965, as amended (the HEA). The regulations for the TEACH Grant Program are in 34 CRF 686. The following sections of the TEACH Grant regulations are included in this information collection: 686.4, 686.11, 686.32, and 686.34. This is a request for an extension of the existing burden hours in OMB Control Number 1845-0084. The regulations in 686.4 require an institution that ceases to participate or becomes ineligible to participate in the TEACH Grant program during an award year to report to the Department of Education (the Department) within 45 days after the effective date of the loss of eligibility. The regulations in 686.11 establish that in addition to meeting the student eligibility requirements, in order to receive a TEACH Grant the applicant must submit the designated application, sign a TEACH Grant agreement to serve or repay (this burden is captured under OMB Control Number 1845-0083), and enroll in a TEACH Grant eligible institution. The regulations in 686.32 require an institution to provide initial, subsequent, and exit counseling to each TEACH Grant recipient and maintain documentation substantiating the counseling requirements. The regulations in 686.34 require the institution to promptly provide written notification to a student requesting repayment of any overpayment that the institution does not have responsibility to repay. The regulations also require that the institution refer the student to the Department if the student does not take positive action to promptly resolve the TEACH Grant overpayment. In addition, in 686.34 there is conversion counseling requirements for grant recipients whose TEACH Grants are converted to Direct Unsubsidized Loans.

Dated: September 25, 2023.
Kun Mullan,
PRA Coordinator, Strategic Collections and Clearance Governance and Strategy Division, Office of Chief Data Officer, Office of Planning, Evaluation and Policy Development.

[FR Doc. 2023-21310 Filed 9-28-23; 8:45 am]

BILLING CODE 4000-01-P